FEDERAL COMMUNICATIONS COMMISSION

47 CFR Part 73

[DA 02-3166; MB Docket No. 02-192; RM-10507]

Radio Broadcasting Services; Albany, VT

AGENCY: Federal Communications Commission.

ACTION: Final rule.

SUMMARY: This document allots Channel 233A to Albany, Vermont, in response to a petition filed by Lutterloh Community Broadcasters. See 67 FR 50850, August 6, 2002. The coordinates for Channel 233A at Albany are 44-45-26 and 72-20-09. There is a site restriction 4.6 kilometers (2.8 miles) northeast of the community. Although concurrence has been requested for the allotment of Channel 233A at Albany as a specially negotiated short-spaced allotment, concurrence from the Canadian Government has not been received. Therefore, operation with the facilities specified for the allotment of Channel 233A at Albany herein is subject to modification, suspension, or termination without right to hearing, if found by the Commission to be necessary in order to conform to the USA-Canadian FM Broadcast Agreement or if specifically objected to by Canada. With this action, this proceeding is terminated. A filing window for Channel 233A at Albany will not be opened at this time. Instead, the issue of opening this allotment for auction will be addressed by the Commission in a subsequent order.

DATES: Effective December 30, 2002.

FOR FURTHER INFORMATION CONTACT: Kathleen Scheuerle, Media Bureau, (202) 418-2180.

SUPPLEMENTARY INFORMATION: This is a summary of the Commission's Report and Order, MB Docket No. 02-192, adopted November 6, 2002, and released November 15, 2002. The full text of this Commission decision is available for inspection and copying during regular business hours in the FCC Information Center, Portals II, 445 12th Street, SW., Room CY-A257, Washington, DC 20554. The complete text of this decision may also be purchased from the Commission's duplicating contractor, Qualex International, Portals II, 445 12th Street, SW., Room CY-B402, Washington, DC 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Vermont, is amended by adding Albany, Channel 233A.

Federal Communications Commission.
John A. Karousos,
Assistant Chief, Audio Division, Media Bureau.

[FR Doc. 02-30501 Filed 12-2-02; 8:45 am]

BILLING CODE 6712-01-P